ENVIRONMENTAL PROTECTION AGENCY

[ER-FRL-6612-7]

Environmental Impact Statements; Notice of Availability

Responsible Agency: Office of Federal Activities, General Information (202) 564-7167 or www.epa.gov/oeca/ofa.

Weekly Receipt of Environmental Impact Statements filed November 6, 2000 through November 9, 2000 pursuant to 40 CFR 1506.9.

EIS No. 000381, Final EIS, BOP, CA, Lassen County Federal Correctional Institution (FCI), Construction and Operation, To House Median-Security Inmates and Federal Prison Camp, Possible Site is Southwest Site, Lassen County, CA, Due: December 18, 2000, Contact: David J. Dorworth (202) 514-6470.

EIS No. 000382, Final EIS, SFW, CA, Trinity River Mainstem Fishery Restoration, To Restore and Maintain the Natural Production of Anadromous Fish, Trinity and Humboldt Counties, CA, Due: December 18, 2000, Contact: George Guillen (707) 822-7201.

EIS No. 000383, Draft EIS, BLM, NM, Sierra and Otero Counties Resource Management Plan Amendment and Federal Fluid Minerals Leasing and Development, Implementation, Sierra and Otero Counties, NM, Due: February 20, 2001, Contact: Tom Philips (505) 525-4377.

EIS No. 000384, Draft Supplement, FHW, CO, Colorado Forest Highway 80, Guanella Pass Road (also known as Park County Road 62, Clear Creek County Road 381 and Forest Development Road 118), Additional Alternative includes Rehabilitation, Light Reconstruction and Full Construction, Funding, Clear Creek and Park Counties, CO, Due: January 16, 2001, Contact: Richard Cushing (303) 716-2138.

EIS No. 000385, Final EIS, COE, NB, Sand Creek Watershed Restoration Project, To Develop Environmental Restoration, City of Wahoo, Saunders County, NB, Due: December 18, 2000, Contact: Kevin Mayberry (402) 221-4020.

EIS No. 000386, Final EIS, COE, CA, Murrieta Creek Flood Control and Protection, Implementation, Riverside County, CA , Due: December 18, 2000, Contact: Timothy Smith (213) 452-3854.

EIS No. 000387, Final EIS, AFS, MT, Rocky Mountain Front Mineral Withdrawal, Implementation, Helena and Lewis and Clark National Forests, Great Falls, MT, Due: December 18, 2000, Contact: Rick Prausa (406) 791-7720.

EIS No. 000388, Draft EIS, FHW, PA, NY, US Route 15 Improvement Project, from PA-6015, section G-20 and G-22 Tioga County, Pennsylvania and PIN 6008.22.123 Steuben County, New York (US Route 15 between PA Route 287 and Presho, New York, Funding and COE section 404 Permit, Tioga County, PA and Steuben County, NY, Due: January 31, 2001, Contact: James A. Cheatham (717) 221-3461.

EIS No. 000389, Final EIS, BLM, CA, Imperial Project, Open-Pit Precious Metal Mining Operation Utilizing Heap Leach Processes, Updated Information concerning “Endangered, Rare or Threatened” Biological Resources, Plan of Operations and Reclamation Plan Approvals, Right-of-Way Grants, Conditional Use/U.S. COE Permits, El Centro Resource Area, Desert District, Due: December 18, 2000, Contact: Glen R. Miller (760) 337-4400.

EIS No. 000390, Final EIS, AFS, Forest Service Roadless Area Conservation, Implementation, Proposal to Protect Roadless Areas, Due: December 18, 2000, Contact: Scott Conroy (703) 605-5299.

Amended Notices

EIS No. 000376, Final EIS, AFS, ID, Goose Creek Watershed Project, Harvesting Timber and Improve Watershed, Payette National Forest, New Meadows Ranger District, Adams County, ID, Due: December 8, 2000, Contact: Kimberly Brandel (208) 347-0300.

Revision of FR Notice published on 11/09/2000: CEQ Due Date Corrected from 12/11/2000 to 12/08/2000.

EIS No. 000377, Final EIS, COE, MO, Chesterfield Valley Flood Control Study, Improvement Flood Protection, City of Chesterfield, St. Louis County, MO, Due: December 8, 2000, Contact: Deborah Foley (314) 331-8485.

Revision of FR notice published on 11/09/2000: CEQ Due Date Corrected from 12/11/2000 to 12/08/2000.

EIS No. 000379, Final EIS, COE, WA, Programmatic EIS—Green/Duwamish River Basin Restoration Program, Capitol Improvement Type Program and Ecological Health, King County, WA, Due: December 8, 2000, Contact: Patrick Cagney (206) 764-6577.

Revision of FR notice published on 11/09/2000: CEQ Due Date Corrected from 12/11/2000 to 12/08/2000.

Dated: November 14, 2000.
Joseph C. Montgomery,
Director, NEPA Compliance Division, Office of Federal Activities.

[FR Doc. 00-29529 Filed 11-16-00; 8:45 am]

BILLING CODE 6560-50-P